DEPARTMENT OF THE INTERIOR

Fish and Wildlife Service

Preparation of an Environmental Impact Statement for the North County Multiple Species Conservation Program, San Diego, CA

AGENCY: Fish and Wildlife Service, Interior.

ACTION: Notice of intent.

SUMMARY: Pursuant to the National Environmental Policy Act (NEPA), the U.S. Fish and Wildlife Service (Service) advises the public that we intend to gather information necessary to prepare, in coordination with the County of San Diego (County), a joint Environmental Impact Statement/Environmental Impact Report (EIS/EIR) for the North County Multiple Species Conservation Program (NCMSCP) Plan. The NCMSCP Plan would serve as a multiple species Habitat Conservation Plan under Section 10(a)(1)(B) of the Federal Endangered Species Act, as amended in 1982 (ESA).

The Service provides this notice to: (1) Describe the proposed action and possible alternatives; (2) advise other Federal and State agencies, affected Tribes, and the public of our intent to prepare an EIS/EIR; (3) announce the initiation of a public scoping period; and (4) obtain suggestions and information on the scope of issues and alternatives to be included in the EIS/EIR.

DATES: A public meeting will be held on Wednesday, March 30, 2005, from 4 p.m. to 6 p.m. Written comments should be received on or before April 13, 2005.

ADDRESSES: The public meeting will be held at the following location: Wednesday, March 30, 2005, at the U.S. Fish and Wildlife Service, Carlsbad Fish and Wildlife Office, 6010 Hidden Valley Road, Carlsbad, CA 92009.

Information, written comments, or questions related to the preparation of the EIS/EIR and NEPA process should be submitted to Susan Wynn, Fish and Wildlife Biologist, Carlsbad Fish and Wildlife Office, 6010 Hidden Valley Road, Carlsbad, California 92009 (facsimile (760) 431-5902).

FOR FURTHER INFORMATION CONTACT: Susan Wynn (see ADDRESSES) at (760) 431-9440.

SUPPLEMENTARY INFORMATION:

Reasonable Accommodation

Persons needing reasonable accommodations in order to attend and participate in the public meeting should contact Susan Wynn as soon as possible (see FOR FURTHER INFORMATION CONTACT). In order to allow sufficient time to process requests, please call no later than 1 week before the public meeting. Information regarding this proposed action is available in alternative formats upon request.

Background

The purpose of the EIS/EIR is to analyze the impacts of the proposed issuance of an ESA incidental take permit based on implementation of the NCMSCP Plan. The Federal need is to ensure compliance with the ESA, NEPA, and other applicable Federal laws and regulations.

Section 9 of the Federal ESA (16 U.S.C. 1531 et seq.) and Federal regulations prohibit the “take” of a fish or wildlife species listed as endangered or threatened. Under the ESA, the following activities are defined as take: harass, harm, pursue, hunt, shoot, wound, kill, trap, capture or collect listed animal species, or attempt to engage in such conduct (16 U.S.C. 1538). However, under section 10(a) of the ESA, we may issue permits to authorize “incidental take” of listed animal species. “Incidental take” is defined by the ESA as take that is incidental to, and not the purpose of, carrying out an otherwise lawful activity. Regulations governing permits for threatened species and endangered species, respectively, are at 50 CFR 17.32 and 50 CFR 17.22.

Take of listed plant species is not prohibited under the ESA and cannot be authorized under an ESA section 10 permit. We propose to include plant species on the permit in recognition of the conservation benefits provided for them under the plan. All species included on the permit would receive assurances under the Service's “No Surprises” regulation.

The proposed NCMSCP Plan is intended to protect key sensitive plant and animal populations and habitats within the unincorporated portion of northern San Diego County, with an overall goal of allowing currently threatened and endangered species to maintain or improve their status in the wild and eliminating the need to list more species as endangered in the future under Federal and State Endangered Species Acts. The proposed NCMSCP Plan also is intended to provide an economic benefit by reducing constraints on future development and decreasing the costs of compliance with Federal and State laws protecting biological resources.

The proposed NCMSCP Plan would serve as a multiple species Habitat Conservation Plan under Section 10(a)(1)(B) of the Federal ESA. The proposed NCMSCP Plan is a cooperative effort among the County, the Service and California Department of Fish and Game (Wildlife Agencies). This program would support applications to the Wildlife Agencies for incidental “take” of threatened or endangered animal species. Incidental take may be authorized for otherwise legal activities that would allow harm to listed individual animals or their habitat in return for supporting conservation in planned preserve areas. If the County obtains take authorization, it could permit take of animal species for projects that conform to the standards outlined in the plan.

Currently the County intends to request a permit authorizing the incidental take of 30 animal species (8 federally listed and 22 unlisted animal species) for 50 years during the course of conducting otherwise lawful land use or development activities on public and private land in northern San Diego County. The permit would also cover 9 listed and 19 unlisted plant species. Listed species proposed to be included are: (1) The endangered San Diego fairy shrimp (Branchinecta sandiegonensis); (2) endangered arroyo toad (Bufo californicus); (3) endangered Stephens' kangaroo rat (Dipodomys stephensi); (4) endangered light-footed clapper rail (Rallus longirostris levipes); (5) endangered least Bell's vireo (Vireo bellii pusillus); (6) endangered southwestern willow flycatcher (Empidonax traillii extimus); (7) threatened California gnatcatcher (Polioptila californica californica); (8) threatened bald eagle (Haliaeetus leucocephalus); (9) endangered Nevin's barberry (Berberis nevinii); (10) endangered San Diego button-celery (Eryngium aristulatum var. parishii); (11) endangered Del Mar manzanita (Arctostaphylos glandulosa ssp. crassifolia); (12) endangered Orcutt's spineflower (Chorizanthe orcuttiana); (13) endangered San Diego ambrosia (Ambrosia pumila); (14) threatened Encinitas baccharis (Baccharis vanessae); (15) threatened thread-leaved brodiaea (Brodiaea filifolia); (16) threatened spreading navarettia (Navarettia fossalis); and (17) threatened San Diego thornmint (Acanthomintha illicifolia). The total species covered by the NCMSCP Plan may fluctuate based on the review process and alternatives proposed.

The intended overall effect of the proposed NCMSCP Plan is to create large, connected preserve areas that address the regional habitat needs for a number of species together and provide for ongoing management and monitoring. The proposed NCMSCP Plan is the second of three County Habitat Conservation Plans that would work together to protect sensitive plants, animals, and their habitats in the unincorporated portions of the County of San Diego. Currently, there is a Subarea Plan that covers South County and a Plan for East County is in its initial planning phase. The cities in the northern portion of the county (Solana Beach to Oceanside and east to Escondido) have recently completed a subregional plan, the Multiple Habitat Conservation Plan, which is being implemented on a city-by-city basis through individual Habitat Management Plans. The proposed NCMSCP Plan would provide connections to the planned open space areas in the Multiple Habitat Conservation Plan as well as the South County MSCP Subarea Plan, thereby providing a regional open space preserve system. This could also provide an opportunity for coordinated management and monitoring of preserves throughout the region. Outside of multiple species planning programs, project-level mitigation occurs for relatively few species and can result in small, isolated open space easements that are difficult to manage and monitor. The NCMSCP Plan proposes to include a requirement to manage, maintain and monitor plant and animal life on the lands once they are acquired or dedicated as preserve lands. There are two levels of management activities proposed: stewardship (removal of trash, prevention of trespass, erosion control, etc.) and biological monitoring (habitat monitoring, corridor monitoring, species-specific surveys).

Three documents will be prepared and the project impacts will be analyzed as part of the NEPA/California Environmental Quality Act (CEQA) review process:

1. Draft NCMSCP Plan. The draft NCMSCP Plan would outline the goals and policies that affect land within the NCMSCP Plan boundaries. It would identify conservation policies, allowable uses in preserve areas, and general procedures and guidelines for assembling the preserve. The draft NCMSCP Plan would also include a map that illustrates a number of conservation elements.

2. Draft North County Biological Mitigation Ordinance (NCBMO). The draft NCBMO would explain the requirements for processing project development applications and describe required habitat mitigation measures for projects not exempt from the NCBMO. The NCBMO would apply to those lands within the proposed NCMSCP Plan boundaries.

3. Draft North County MSCP Implementing Agreement (Agreement). The third document to be drafted is an Implementing Agreement among the County and the Wildlife Agencies. The purpose of this proposed Agreement is to ensure the implementation of the NCMSCP Plan by binding each of the parties to fulfill and faithfully perform the obligations, responsibilities, and tasks assigned to it pursuant to the terms of the NCMSCP Plan as proposed. This Agreement would also provide remedies and recourse should any of the Parties fail to perform its obligations, responsibilities, and tasks as set forth in the MSCP, the NCMSCP Plan and this Agreement.

There are six specific conservation areas associated with the proposed NCMSCP plan:

1. Publicly-Owned Preserve Areas. These are permanent open space preserve areas currently owned and managed by public agencies.

2. Negotiated “Hardline” Areas. These are proposed areas where portions of private land development projects have been identified for development and others committed to the proposed NCMSCP Plan preserve as permanent open space.

3. Pre-Approved Mitigation Area (PAMA). Lands within the proposed PAMA have been identified through an extensive computer modeling process and independent scientific review as being of high biological importance. Mitigation, in the form of private land open space dedications, would be encouraged to take place in these areas as set forth in the NCBMO as proposed. Development would occur within the proposed PAMA area but mitigation ratios would be higher and certain design standards would have to be met as set forth in the NCBMO. The County anticipates that 75 percent of the proposed PAMA would be preserved as natural open space or agricultural lands through acquisition of lands in fee title or easements by public and private organizations and private land dedications.

4. San Luis Rey River Regional Park Area. Preservation of habitat within the San Luis Rey River Regional Park Area is proposed to meet outdoor recreational needs of San Diego County residents and help provide coverage for incidental take of animal species under the proposed NCMSCP Plan for the widening of State Route 76. Take authorization for the improvement of State Route 76 would be permitted if the improvement plans meet set criteria and goals.

5. Working Landscapes. These proposed areas include agricultural operations that maintain conservation value for endangered species such as the arroyo toad and the Stephen's kangaroo rat, and could also provide habitat connectivity in core and linkage areas. Maintaining agriculture in these areas would be encouraged. The County is investigating a variety of economic incentive programs for landowners in these areas such as exempting agricultural clearing from NCBMO in areas outside of Pre-approved Mitigation Areas, if Agricultural Conservation Easements are granted to the County on areas to be cleared.

6. The Ramona Vernal Pools Planning Area. Vernal pools in the downtown area of Ramona and the adjacent grasslands have been assessed in a study funded by the Environmental Protection Agency. The results from the final report would be incorporated into the plan. The proposed Ramona Vernal Pool component would prescribe a process for project review and mitigation to preserve the most valuable pools with the greatest likelihood of perpetual preservation.

Components of the proposed conservation program are now under consideration by the Service and the Applicants. These components would likely include avoidance and minimization measures, monitoring, adaptive management, and mitigation measures consisting of preservation, restoration, and enhancement of habitat. We also welcome public input on formulating these components.

Environmental Impact Statement/Environmental Impact Report

The County, the Service, and the California Department of Fish and Game have selected Jones and Stokes to prepare the Draft EIS/EIR under the agencies supervision. The joint document will be prepared in compliance with NEPA and CEQA. Although Jones and Stokes will prepare the EIS/EIR, the Service will be responsible for the scope and content of the document for NEPA purposes, and the County will be responsible for the scope and content of the EIR for CEQA purposes.

The EIS/EIR will consider the proposed action (i.e., the issuance of a section 10(a)(1)(B) permit under the Federal ESA to the County), and a reasonable range of alternatives. A detailed description of the impacts of the proposed action and each alternative will be included in the EIS/EIR. The alternatives to be considered for analysis in the EIS/EIR may include: variations of the geographical coverage of the permit; variations in the amount and type of conservation; variations in permit duration; variations of the scope or type of covered activities or covered species; no project/no action; or, a combination of these elements. Under the No Action alternative, the Service would not issue a section 10(a)(1)(B) permit.

The EIS/EIR will also identify potentially significant impacts on biological resources, recreation, and other environmental issues that could occur directly or indirectly with implementation of the proposed action and alternatives. For all potentially significant impacts, the EIS/EIR will identify mitigation measures where feasible to reduce these impacts to a level below significance.

Environmental review of the EIS/EIR will be conducted in accordance with the requirements of NEPA (42 U.S.C. 4321 et seq.), its implementing regulations (40 CFR 1500-1508), other applicable regulations, and Service procedures for compliance with those regulations. This notice is being furnished in accordance with 40 CFR 1501.7 of NEPA to obtain suggestions and information from other agencies and the public on the scope of issues and alternatives to be addressed in the EIS/EIR. The primary purpose of the scoping process is to identify important issues raised by the public, related to the proposed action. Written comments from interested parties are invited to ensure that the full range of issues related to the proposed action is identified. Comments will only be accepted in written form. You may submit written comments by mail, facsimile transmission, or in person (see ADDRESSES). All comments received, including names and addresses, will become part of the official administrative record, and may be made available to the public.

Dated: March 8, 2005.
Vicki Campbell,
Acting Deputy Manager, California/Nevada Operations Office, Sacramento, California.

[FR Doc. 05-4926 Filed 3-11-05; 8:45 am]

BILLING CODE 4310-55-P